COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and a service to the Procurement List that will be furnished by nonprofit agencies employing persons who are blind or have other severe disabilities, and delete services previously provided by such agencies.

DATES: Comments Must Be Received on or Before: 3/17/2014.

ADDRESSES: Committee for Purchase From People Who Are Blind or Severely Disabled, 1401 S. Clark Street, Suite 10800, Arlington, Virginia 22202-4149.

For Further Information or To Submit Comments Contact: Patricia Briscoe, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSN: 6510-01-362-4959—Gauze, Petrolatum, Sterile, White, 36″ × 3″

NPA: Lighthouse Central Florida, Orlando, FL

Contracting Activity: DEFENSE LOGISTICS AGENCY TROOP SUPPORT, PHILADELPHIA, PA

COVERAGE: C-List for 100% of the requirement of the Department of Defense, as aggregated by the Defense Logistics Agency Troop Support, Philadelphia, PA.

Bungee Rope, Flexible, w/Crimped Loops

NSN: 5340-00-NIB-0127—3 feet, Black

NSN: 5340-00-NIB-0129—5 feet, Black

NSN: 5340-00-NIB-0192—3 feet, Camouflage

NSN: 5340-00-NIB-0193—3 feet, Olive Drab

NSN: 5340-00-NIB-0194—3 feet, Orange

NSN: 5340-00-NIB-0195—3 feet, Tan

NSN: 5340-00-NIB-0196—5 feet, Camouflage

NSN: 5340-00-NIB-0197—5 feet, Olive Drab

NSN: 5340-00-NIB-0198—5 feet, Orange

NSN: 5340-00-NIB-0199—5 feet, Tan

NPA: L.C. Industries for the Blind, Inc., Durham, NC

Contracting Activity: DEFENSE LOGISTICS AGENCY TROOP SUPPORT, PHILADELPHIA, PA

COVERAGE: B-List for the Broad Government Requirement as aggregated by the Defense Logistics Agency, Philadelphia, PA.

Service

Service Type/Location: Janitorial Service, U.S. Fish and Wildlife Service, Region 6, National Eagle and Wildlife Property Repository and Law Enforcement Office, (Except wildlife property storage area (warehouse)), 6550 Gateway Road, RMA, Building 128, Commerce City, CO

NPA: North Metro Community Services for Developmentally Disabled, Westminster, CO

Contracting Activity: DEPT OF THE INTERIOR, U.S. FISH AND WILDLIFE SERVICE, CONTRACTING AND GENERAL SERVICES DIV, DENVER, CO

Deletions

The following services are proposed for deletion from the Procurement List:

Services

Service Types/Locations: Grounds Maintenance, U.S. Army Reserve Center: Mifflin County, 73 Reserve Lane, Lewiston, PA

Sgt. Paul Beck AFRC, 987 East Bishop Street, Bellefonte, PA

U.S. Army Reserve Center, 1250 Fox Hollow Road—Centre County, State College, PA

U.S. Army Reserve Center: Buildings 1 and 5, 2997 North Second Street, Harrisburg, PA

U.S. Army Reserve Center: Lenkalis, 250 Washington Avenue, West Hazelton, PA

Sgt. Paul Beck AFRC, 987 East Bishop Street, Bellefonte, PA

Janitorial/Custodial, U.S. Army Reserve Center, 1545 Airport Road, Franklin, PA

NPAs: UNKNOWN

Contracting Activity: DEPT OF THE ARMY, W40M NATL REGION CONTRACT OFC, FORT BELVOIR, VA

Patricia Briscoe,
Deputy Director, Business Operations, (Pricing and Information Management).

[FR Doc. 2014-03255 Filed 2-13-14; 8:45 am]

BILLING CODE 6353-01-P